ENVIRONMENTAL PROTECTION AGENCY

40 CFR Part 180

[OPP-2002-0057; FRL-7193-6]

Objections to Tolerances Established for Certain Pesticide Chemicals; Extension of Comment Period

AGENCY: Environmental Protection Agency (EPA).

ACTION: Availability of final rule objections; extension of comment period.

SUMMARY: On June 19, the Agency announced the availability of, and sought public comment on objections submitted to EPA by the Natural Resources Defense Council (NRDC) on certain pesticide tolerances. Due to the number and complexity of the issues raised in NRDC's objections, EPA is extending the comment period for 30 days, from August 19 to September 17, 2002.

DATES: Comments, identified by the docket control number OPP-2002-0057, must be received on or before September 17, 2002.

ADDRESSES: Comments may be submitted by mail, electronically, or in person. Please follow the detailed instructions for each method as provided in Unit I. of the SUPPLEMENTARY INFORMATION. To ensure proper receipt by EPA, it is imperative that you identify docket control number OPP-2002-0057 in the subject line on the first page of your response.

FOR FURTHER INFORMATION CONTACT: Peter Caulkins, Registration Division, (MC7505C), Office of Pesticide Programs, Environmental Protection Agency, 1200 Pennsylvania Ave., NW., Washington, DC 20460; telephone number: (703) 305-6550; fax number: (703) 305-6920; e-mail address: caulkins.peter@epa.gov.

SUPPLEMENTARY INFORMATION:

I. General Information

A. Does this Action Apply to Me?

You may be potentially affected by this action if you are an agricultural producer, food manufacturer, or pesticide manufacturer. Potentially affected categories and entities may include, but are not limited to:

Categories | NAICS codes | Examples of potentially affected entities
Industry | 111 112 311 32532 | Crop production Animal production Food manufacturing Pesticide manufacturing

This listing is not intended to be exhaustive, but rather provides a guide for readers regarding entities likely to be affected by this action. Other types of entities not listed in this table could also be affected. The North American Industrial Classification System (NAICS) codes are provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-2002-0057. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit your comments through the mail, in person, or electronically. To ensure proper receipt by EPA, it is imperative that you identify docket control number OPP-2002-0057 in the subject line of the first page of your response.

1. By mail. Submit your comments to: Public Information and Records Integrity Branch (PIRIB), Information Resources and Services Division (7502C), Office of Pesticide Programs (OPP), Environmental Protection Agency, Ariel Rios Bldg., 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Highway, Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6, Suite 8, or ASCII file format. All comments in electronic form must be identified by docket control number OPP-2002-0057. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the final rule or collection activity.

7. Make sure to submit your comments by the deadline in this final rule extension.

8. To ensure proper receipt by EPA, be sure to identify the docket control number assigned to this action in the subject line on the first page of your response. You may also provide the name, date, and Federal Register citation.

II. Background

A. What Action is EPA Taking?

On Feburary 25, 2002, March 19, 2002, and May 7, 2002, NRDC filed objections with EPA regarding final rules establishing certain tolerances under section 408 of the Federal Food, Drug, and Cosmetic Act (FFDCA), 21 U.S.C. 346a, for the following seven pesticides:

(1) Imidacloprid;

(2) Mepiquat;

(3) Bifenazate;

(4) Zeta-cypermethrin;

(5) Diflubenzuron;

(6) Halosulfuron methyl; and

(7) Pymetrozine.

NRDC's objections concern a number of issues under section 408 of the FFDCA including the additional 10x safety factor for the protection of infants and children and aggregate exposure to pesticide chemical residues. In the Federal Register of June 19, 2002, 67 FR 41628 (FRL-7167-7), the Agency announced the availability of, and sought public comment on these objections. EPA has received a request to extend the comment period. An extension was requested due to the broad nature of the NRDC objections documents and the large number of issues raised. The requestor felt that an extension to the comment period would give all interested parties the opportunity to develop detailed and comprehensive comments on these issues. The objections are available on EPA's website at http://www.epa.gov/fedrgstr/EPA-PEST/2002/June/Day-19/p15465.htm

The Agency provided a 60-day comment period, which was scheduled to end August 19, 2002. In response to the request for an extension, the Agency is extending the comment period on the NRDC tolerance objections to September 17, 2002.

List of Subjects

Environmental protection, Administrative practice and procedure, Agricultural commodities, Pesticides and pests, Tolerances.

Authority: 21 U.S.C. 346(a).

Dated: August 8, 2002.
James Jones,
Acting Director, Office of Pesticide Programs.

[FR Doc. 02-20748 Filed 8-15-02; 8:45 am]

BILLING CODE 6560-50-S